DEPARTMENT OF ENERGY

Federal Energy Regulatory Commission

Combined Notice of Filings #1

Take notice that the Commission received the following electric corporate filings:

Docket Numbers: EC18-162-000.

Applicants: Mendota Hills, LLC.

Description: Application for Authorization Under Section 203 of the Federal Power Act, et al. of Mendota Hills, LLC.

Filed Date: 9/25/18.

Accession Number: 20180925-5133.

Comments Due: 5 p.m. ET 10/16/18.

Docket Numbers: EC18-163-000.

Applicants: San Diego Gas & Electric Company, Citizens Sycamore-Penasquitos Transmission.

Description: Joint Application for Authorization Under Section 203 of the Federal Power Act of San Diego Gas & Electric Company, et. al.

Filed Date: 9/26/18.

Accession Number: 20180926-5034.

Comments Due: 5 p.m. ET 10/17/18.

Take notice that the Commission received the following electric rate filings:

Docket Numbers: ER18-1883-001.

Applicants: Midcontinent Independent System Operator, Inc., Michigan Electric Transmission Company, LLC.

Description: Compliance filing: 2018-09-26_SA 3132 Compliance Filing for METC-Wolverine T-T to be effective 6/1/2018.

Filed Date: 9/26/18.

Accession Number: 20180926-5072.

Comments Due: 5 p.m. ET 10/17/18.

Docket Numbers: ER18-1974-001.

Applicants: Otter Tail Power Company.

Description: Compliance filing: Compliance Notification of Effective Date to be effective 9/17/2018.

Filed Date: 9/26/18.

Accession Number: 20180926-5086.

Comments Due: 5 p.m. ET 10/17/18.

Docket Numbers: ER18-2013-000.

Applicants: Terra-Gen Dixie Valley, LLC.

Description: Report Filing: Refund Report to be effective N/A.

Filed Date: 9/25/18.

Accession Number: 20180925-5096.

Comments Due: 5 p.m. ET 10/16/18.

Docket Numbers: ER18-2474-000.

Applicants: Southwest Power Pool, Inc.

Description: § 205(d) Rate Filing: Attachment V GIA Pro Forma Clean-Up Filing to be effective 5/15/2018.

Filed Date: 9/25/18.

Accession Number: 20180925-5120.

Comments Due: 5 p.m. ET 10/16/18.

Docket Numbers: ER18-2475-000.

Applicants: Imperial Valley Solar 3, LLC.

Description: § 205(d) Rate Filing: Imperial Valley Solar 3, LLC Co-Tenancy and Shared Use Agreement to be effective 9/26/2018.

Filed Date: 9/25/18.

Accession Number: 20180925-5122.

Comments Due: 5 p.m. ET 10/16/18.

Docket Numbers: ER18-2476-000.

Applicants: PJM Interconnection, L.L.C.

Description: § 205(d) Rate Filing: Historical Cleanup Filing, MISO-PJM JOA, Section 9.4 to be effective 1/1/2014.

Filed Date: 9/25/18.

Accession Number: 20180925-5098.

Comments Due: 5 p.m. ET 10/16/18.

Docket Numbers: ER18-2477-000.

Applicants: DXT Commodities North America LLC.

Description: Baseline eTariff Filing: Application for Market Based Rate to be effective 11/25/2018.

Filed Date: 9/25/18.

Accession Number: 20180925-5097.

Comments Due: 5 p.m. ET 10/16/18.

Docket Numbers: ER18-2478-000.

Applicants: Southwestern Public Service Company.

Description: Notice of cancellation of Interconnection Agreement (No. 102-SPS) of Southwestern Public Service Company.

Filed Date: 9/25/18.

Accession Number: 20180925-5138.

Comments Due: 5 p.m. ET 10/16/18.

Docket Numbers: ER18-2479-000.

Applicants: PJM Interconnection, L.L.C.

Description: § 205(d) Rate Filing: Third Revised ISA, SA No. 2962; Queue No. Z2-083 to be effective 8/28/2018.

Filed Date: 9/26/18.

Accession Number: 20180926-5039.

Comments Due: 5 p.m. ET 10/17/18.

Docket Numbers: ER18-2480-000.

Applicants: Michigan Electric Transmission Company, LLC.

Description: Tariff Cancellation: Termination of Agreements to be effective 6/1/2018.

Filed Date: 9/26/18.

Accession Number: 20180926-5074.

Comments Due: 5 p.m. ET 10/17/18.

Docket Numbers: ER18-2481-000.

Applicants: Public Service Company of Colorado.

Description: § 205(d) Rate Filing: PSCo-WAPA-Intercon-TSA-Agrmt-376-0.1.0 to be effective 10/1/2018.

Filed Date: 9/26/18.

Accession Number: 20180926-5095.

Comments Due: 5 p.m. ET 10/17/18.

Docket Numbers: ER18-2482-000.

Applicants: Wolverine Power Supply Cooperative, Inc.

Description: Tariff Cancellation: Notice of Cancellation of Rate Schedules to be effective 9/27/2018.

Filed Date: 9/26/18.

Accession Number: 20180926-5113.

Comments Due: 5 p.m. ET 10/17/18.

Take notice that the Commission received the following electric securities filings:

Docket Numbers: ES18-62-000.

Applicants: Oklahoma Gas and Electric Company.

Description: Application under Section 204 of the Federal Power Act for Authorization to Issue Securities of Oklahoma Gas and Electric Company.

Filed Date: 9/26/18.

Accession Number: 20180926-5088.

Comments Due: 5 p.m. ET 10/17/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2018.
Nathaniel J. Davis, Sr.,
Deputy Secretary.

[FR Doc. 2018-21411 Filed 10-1-18; 8:45 am]

BILLING CODE 6717-01-P